NATIONAL TRANSPORTATION SAFETY BOARD

Lithium Ion Batteries in Transportation Public Forum

On Thursday and Friday, April 11-12, 2013, the National Transportation Safety Board (NTSB) will convene a forum titled, “Lithium Ion Batteries in Transportation.” The forum will begin at 9:00 a.m. on both days and is open to all. Attendance is free, and no registration is required. The NTSB Chairman Deborah A.P. Hersman will serve as the presiding officer of the forum, and all five NTSB Board Members will serve as members of the Board of Inquiry. The forum is organized into three topic areas:

• Lithium ion battery design, development, and use;

• Lithium ion battery regulations and standards; and

• Lithium ion battery applications and safety in transportation.

The NTSB has previously expressed concerns regarding the safe transportation of lithium batteries on aircraft. The presence of and use of lithium ion batteries in transportation is not, however, limited to aviation. Through this forum, the NTSB will highlight the role of lithium ion batteries across all modes of transportation, manufacturing processes, design standards, failure rates, and regulations and other standards associated with their use and shipping.

Expert panelists will include representatives from government agencies, industry suppliers, safety experts, and the research community. Below is the preliminary agenda:

Thursday, April 11 (9:00 a.m.-4:30 p.m.)

1. Opening Statement by Chairman Hersman

2. Introduction of the Officers, technical panel, and panelists

3. Presentations from Panels One and Two and questions from the Officers and Technical Panel

4. Closing statement by Chairman Hersman

Friday, April 12 (9:00 a.m.-12:30 p.m.)

1. Opening Statement by Chairman Hersman

2. Presentations from Panel Three and questions from the Officers and Technical Panel

3. Closing statement by Chairman Hersman

Panel topics will include the following:

Panel 1—Design, Development, and Use of Lithium Ion Battery Technology

Panel 2—Regulations and Standards for Lithium Ion Batteries; and

Panel 3—Lithium Ion Battery Applications and Safety in Transportation.

The full agenda and a list of participants can be found at: www.ntsb.gov/BatteryForum.

The forum will be held in the NTSB Board Room and Conference Center, located at 429 L'Enfant Plaza E SW., Washington, DC. The public can view the forum in person or by live Webcast at www.ntsb.gov. Webcast archives are generally available by the end of the next day following the forum, and Webcasts are archived for a period of 3 months from after the date of the event.

Individuals requesting specific accommodations should contact Rochelle Hall at Rochelle.hall@ntsb.gov or by phone at (202) 314-6305 by Monday, April 8, 2013.

NTSB Media Contact: Peter Knudson—peter.knudson@ntsb.gov.

NTSB Forum Manager: Michael E. Hiller—michael.hiller@ntsb.gov.

NTSB Forum Coordinator: Jennifer Cheek—jennifer.cheek@ntsb.gov.

Dated: March 22, 2013.
Candi R. Bing,
Federal Register Liaison Officer.

[FR Doc. 2013-07101 Filed 3-27-13; 8:45 am]

BILLING CODE 7533-01-P